DEPARTMENT OF THE INTERIOR

Bureau of Land Management

Fish and Wildlife Service

[BLM_FRN_MO4500175331]

Notice of Intent To Prepare a Supplemental Environmental Impact Statement To Reconsider a Highway Right-of-Way Application and Associated Amendment of an Incidental Take Permit, Washington County, Utah; Correction

AGENCY: Bureau of Land Management, Fish and Wildlife Service, Interior.

ACTION: Notice of Intent; correction.

SUMMARY: This notice corrects the scoping comment period of the Notice of Intent to Prepare a Supplemental Environmental Impact Statement to Reconsider a Highway Right-of-Way Application and Associated Amendment of an Incidental Take Permit, Washington County, Utah, published in the Federal Register on November 16, 2023. The initial notice had an incorrect end date of the scoping period of December 18, 2023. The correct end date of the scoping period is December 21, 2023.

FOR FURTHER INFORMATION CONTACT: Dawna Ferris-Rowley, NCA Manager, Red Cliffs and Beaver Dam Wash NCAs, telephone (435) 688-3200; address 345 East Riverside Drive, St. George, UT 84790; email BLM_UT_NorthernCorridor@blm.gov. Contact Ms. Ferris-Rowley to have your name added to our mailing list. Individuals in the United States who are deaf, deafblind, hard of hearing, or have a speech disability may dial 711 (TTY, TDD, or TeleBraille) to access telecommunications relay services for contacting Ms. Ferris-Rowley. Individuals outside the United States should use the relay services offered within their country to make international calls to the point-of-contact in the United States.

SUPPLEMENTARY INFORMATION:

Correction

In the Federal Register of November 16, 2023, in FR Doc. 2023-25252, on page 78781, in the second column, correct the DATES caption to read:

DATES: This notice initiates the public scoping process for the SEIS. The BLM and FWS request the public submit comments concerning the scope of the analysis, potential alternatives, impacts of the proposed action and alternatives, and identification of relevant information and studies by December 21, 2023. To afford the BLM and FWS the opportunity to consider comments in the Draft SEIS, please ensure your comments are received prior to the close of the 30-day scoping period or 15 days after the last public meeting, whichever is later.

Gregory Sheehan,
Utah State Director.
Anna Munoz,
Deputy Regional Director.

[FR Doc. 2023-27545 Filed 12-14-23; 8:45 am]

BILLING CODE 4331-25-P